DEPARTMENT OF STATE

[Public Notice #3312]

Shipping Coordinating Committee, Subcommittee on Safety of Life at Sea, Working Group on Fire Protection; Notice of Meeting

The U.S. Safety of Life at Sea (SOLAS) Working Group on Fire Protection will conduct an open meeting on Tuesday, June 13, 2000, at 9:30 AM, in room 6103 at U.S. Coast Guard Headquarters, 2100 Second Street, SW, Washington, DC 20593. The purpose of the meeting will be to discuss the outcome of the Forty-fourth Session of the International Maritime Organization's Subcommittee on Fire Protection, held February 21-25, 2000. In addition, preparations for the next session will also be discussed at the meeting.

The meeting will focus on proposed amendments to the 1974 SOLAS Convention for the fire safety of commercial vessels. Specific discussion areas include: comprehensive review of SOLAS Chapter II-2, unified interpretations to SOLAS II-2 and related fire test procedures, recommendations on evacuation analysis for passenger ships and high-speed passenger craft, fire test procedures for fire retardant materials used in the construction of lifeboats, and use of perfluorocarbons in shipboard fire-extinguishing systems.

Although the meeting will focus primarily on the outcome of the previous session, preparations and plans for the next session will also be discussed. This offers the opportunity for members of the public to be involved early in the standards development process. Members of the public wishing to make a statement on new issues or proposals at the meeting are requested to submit a brief summary to the U. S. Coast Guard five days prior to the meeting.

Members of the public may attend this meeting up to the seating capacity of the room. Interested persons may obtain more information regarding the meeting of the SOLAS Working Group on Fire Protection by writing: Office of Design and Engineering Standards, Commandant (G-MSE-4), U.S. Coast Guard, 2100 Second St., SW, Washington, DC 20593, by calling: LCDR Kevin Kiefer at (202) 267-1444, or by visiting the following World Wide Website: http://www.uscg.mil/hq/g-m/mse4/stdimofp.htm.

Dated: May 17, 2000.
Stephen M. Miller,
Executive Secretary, Shipping Coordinating Committee, U.S. Department of State.

[FR Doc. 00-13193 Filed 5-24-00; 8:45 am]

BILLING CODE 4710-07-P